DEPARTMENT OF HEALTH AND HUMAN SERVICES

Administration for Children and Families

Request for Public Comment and Consultation Meetings on the Adoption and Foster Care Analysis and Reporting System (AFCARS)

AGENCY: Department of Health and Human Services, Administration for Children and Families, Administration on Children, Youth and Families, Children's Bureau.

ACTION: Request for Public Comment and Consultation Meetings on the Adoption and Foster Care Analysis and Reporting System (AFCARS).

SUMMARY: Section 479 of the Social Security Act (the Act) requires that the Administration for Children and Families (ACF) develop and write regulations to implement a system for the collection by title IV-E agencies of data relating to adoption and foster care. The resultant Adoption and Foster Care Analysis and Reporting System (AFCARS) has been operating since 1994 and is administered by the Children's Bureau (CB) in ACF. AFCARS collects case level information on all children in foster care for whom the title IV-E agency has responsibility for placement and care and on children adopted under the auspices of the title IV-E agency. We issued a Notice of Proposed Rulemaking (NPRM) on January 11, 2008 (73 FR 2082) that proposed to amend the AFCARS regulations at 45 CFR 1355.40 and the appendices to part 1355 [http://edocket.access.gpo.gov/2008/E7-24860.htm]. The proposal would modify the requirements for title IV-E agencies to collect and report data to ACF on children in out-of-home care and in subsidized adoption or guardianship arrangements with the title IV-E agency. Due to the enactment of the Fostering Connections to Success and Increasing Adoptions Act of 2008 (Pub. L. 110-351) and the substantial changes it introduced in title IV-E, we intend to issue a new AFCARS NPRM. To inform development of the new NPRM we request that interested parties comment on the questions below.

DATES: Written comments must be submitted to the office listed in the ADDRESSES section below on or before October 21, 2010. Please see SUPPLEMENTARY INFORMATION for additional details on consultation meetings.

ADDRESSES: Interested persons may submit written comments by any of the following methods:

• Federal eRulemaking Portal: http://www.regulations.gov. Follow the instructions for submitting comments.

• E-mail: CBComments@acf.hhs.gov. Please include “Comments on AFCARS Federal Register Notice” in the subject line of the message.

• Mail or Courier Delivery: Jan Rothstein, Division of Policy, Children's Bureau, Administration on Children, Youth and Families, Administration for Children and Families, 1250 Maryland Avenue, SW., 8th Floor, Washington, DC 20024.

Instructions: Please be aware that mail sent to us may take an additional 3-4 days to process due to changes in mail handling resulting from the anthrax crisis of October 2001. If you choose to use an express, overnight, or other special delivery method, please ensure first that they are able to deliver to the above address. We urge you to submit comments electronically to ensure they are received in a timely manner. All comments received will be posted without change to http://www.regulations.gov including any personal information provided. Comments provided to us during a meeting or in writing in response to this Federal Register notice will receive equal consideration by ACF.

FOR FURTHER INFORMATION CONTACT: Jan Rothstein, Children's Bureau, 1250 Maryland Ave., SW., 8th Floor, Washington, DC 20024; (202) 401-5073.

SUPPLEMENTARY INFORMATION: Please respond to any or all of the questions below. It would be helpful if your comment identifies the question to which you are responding. If you have additional comments, please identify them by citing to 45 CFR part 1355 or the 2008 NPRM, as applicable.

Reporting Population

Fostering Connections provides Tribes with the option to operate a foster care, adoption assistance and, at tribal option, a kinship guardianship assistance program under title IV-E of the Social Security Act (the Act). The Secretary is to apply title IV-E of the Act to Tribes operating the program directly in the same manner as to States except where directed by law. Further, Tribes continue to have the ability to enter into title IV-E agreements with States to operate part of the program on behalf of Indian children.

1. How should data collection and reporting requirements in AFCARS change for State and Tribal title IV-E agencies, if at all, to provide a comprehensive national picture of children in foster care and those adopted with the involvement of a title IV-E agency?

In the 2008 NPRM, we proposed expanding the reporting populations to include children placed in the child welfare agency's responsibility for placement and care wherever they are placed and to include children in subsidized guardianships. We believed this information would facilitate a greater understanding of a child's entire out-of-home care experience, which in turn affects the foster care experience and permanency outcomes.

2. Under what circumstances should a child be included in the AFCARS reporting population for foster care, adoption or guardianship?

• What are the barriers to obtaining information on all children in a child welfare agency's placement and care responsibility?

• What information should an agency collect on children in its placement and care responsibility who are placed in detention, psychiatric facilities and other settings other than foster family homes, group homes and child care institutions?

• What information do agencies currently collect on children in finalized adoptions and guardianships?

Federal Oversight Activities

The Children's Bureau uses AFCARS data to support a number of our oversight activities in relation to the title IV-B and IV-E plans, including the Child and Family Services Reviews.

3. What case level data on foster care, adoption and guardianship is important for agencies to collect and report to ACF on an ongoing basis that can inform future Federal monitoring activities, such as the Child and Family Services Reviews?

• Is there data related to safety, permanency and well-being that is essential to monitoring activities that is not collected currently?

Fostering Connections to Success and Increasing Adoptions Act

Fostering Connections created a number of new title IV-E plan provisions and provided Federal funds for agencies that choose to support older youth up to age 21 and children in guardianships.

4. What case level data would support the monitoring of compliance by title IV-E agencies and outcomes for children in relation to the new provisions?

• Fostering Connections requires that an agency ensure that children receiving title IV-E are enrolled in school or have graduated, that an educational stability plan is in place for children in foster care; and, provides Federal reimbursement of some costs to transport a child in foster care to his/her original school. What data would be important to collect with regard to a child's education in relation to these provisions?

• Fostering Connections allows agencies to provide extended assistance up to age 21 for youth in foster care, and certain youth adopted or in guardianships when such youth reach age 18 if they participate in education or employment activities or are unable to do so. What data would be important to collect with regard to these youth in relation to these provisions?

• Fostering Connections requires agencies to notify relatives when a child is placed into foster care and offer them information on how they can be a placement resource for the child and also encourages agencies to place siblings together or facilitate frequent contact, unless doing so is inappropriate. What data is important to collect with regard to relatives and siblings in relation to these provisions?

Circumstances Prior to Removal

In the 2008 NPRM, we proposed detailed data describing the members of the household or the facilities in which children resided prior to entering foster care.

5. What data, if any, should be collected from child welfare agencies to provide insight into from whom, or from what environment a child is removed for the purposes of foster care and the circumstances that surround the child's removal?

Circumstances During Stay in Foster Care

In the 2008 NPRM, we requested that agencies provide us detailed information on circumstances, such as lack of housing, substance abuse, and mental health issues, facing a child and family during several points during the child's stay in foster care.

6. What data, if any, should be collected from child welfare agencies to provide insight into why a child remains in foster care or why a child's permanency plan is selected or changed?

Caseworker Visits

The title IV-B, subpart 1 child welfare services program requires agencies to ensure that children are visited by caseworkers at least monthly and that the majority of those visits occur in the child's residence.

7. What information, if any, about caseworker visits with a child is essential to collect?

Please provide information on any additional factors we should consider in proposing revisions to AFCARS. ACF will analyze the comments and utilize them to determine the necessary next steps to improve AFCARS.

Additional Consultation Opportunities: In addition to this opportunity to inform development of the new NPRM, we plan to hold four in-person consultations in ACF Regions VI, VII, VIII, and X and two webinars.

We invite State representatives and Tribal leaders and/or their representatives of federally recognized Tribes to attend the in-person meetings or webinars to provide their input on the questions raised above. Teleconference lines will also be available during these in-person sessions. Any person who would like to attend one of the Regional consultation sessions in-person or via phone must register at least one week in advance of the meeting date by contacting the applicable Children's Bureau (CB) Regional Program Manager. Registered participants for the consultation session may submit written remarks in advance, or present them in oral or written form at the consultation session. Any person who would like to participate in one of the webinars should register via the website for each webinar below. Persons may also provide written comments as noted in the ADDRESSES section, regardless of their participation in an in-person session or webinar. Finally, please note that Federal representatives attending the consultation sessions will not be able to respond directly during the session to the concerns or questions raised by participants. The consultation sessions and contact information are listed below:

Webinar #1: September 8, 2010 2:30 EDT.

Webinar #2: September 15, 2010 2:30 EDT.

Register for the webinar of your choice by contacting the National Resource Center for Data and Technology at http://www.nrccwdt.org.

Region VI—October 5, 2010, 9:30-11:30 CDT

1301 Young Street, Room 1119, Dallas, TX 75202; Contact: Janis Brown, CB Regional Program Manager, phone (214) 767-9648 or e-mail janis.brown@acf.hhs.gov.

Region VII—September 17, 2010, 9:30-11:30 CDT

601 E 12th Street, Kansas City, MO 64106; Contact: Rosalyn Wilson, CB Regional Program Manager, phone (816) 426-3981 or e-mail rosalyn.wilson@acf.hhs.gov.

Region VIII—September 22, 2010, 9:30-11:30 MDT

Byron Rogers Federal Building, 1961 Stout Street, Denver, CO 80294; Contact: Marilyn Kennerson, CB Regional Program Manager, phone (303) 844-3100 or e-mail marilyn.kennerson@acf.hhs.gov.

Region X—September 23, 2010, 9:30-11:30 PDT

2201 Sixth Avenue, Seattle, WA 98121-1827; Contact: Tina Minor, CB Regional Program Manager, phone (206) 615-2482 or e-mail tina.minor@acf.hhs.gov.

Dated: July 15, 2010.
Bryan Samuels,
Commissioner, Administration on Children, Youth and Families.

[FR Doc. 2010-18042 Filed 7-22-10; 8:45 am]

BILLING CODE 4184-25-P